DEPARTMENT OF THE INTERIOR

National Park Service

National Register of Historic Places; Notification of Pending Nominations

Nominations for the following properties being considered for listing in the National Register were received by the National Park Service before May 26, 2001.

Pursuant to section 60.13 of 36 CFR part 60 written comments concerning the significance of these properties under the National Register criteria for evaluation may be forwarded to the National Register, National Park Service, 1849 C St. NW, NC400, Washington, DC 20240. Written comments should be submitted by June 27, 2001.

Carol D. Shull,
Keeper of the National Register Of Historic Places.

California

Orange County

Ebell Society of Santa Ana Valley, 625 N. French St., Santa Ana, 01000682

Florida

Sarasota County

Appleby Building, 501-513 Kumquat Court, Sarasota, 01000683

Missouri

Bates County

Bates County Courthouse, 1 North Delaware, Butler, 01000684

South Dakota

Hanson County

Saint Peter's Grotto, O.5 mi N of Chicago and North Western Railroad Tracks, Farmer, 01000686

Wisconsin

Brown County

Holy Cross Church and Convent, 3001 Bay Settlement Rd., Green Bay, 01000685

In order to preserve the following resource the comment period for the following resource has been shortened to three (3) days:

A request for a MOVE has been made for the following resource:

Iowa

Polk County

Vail, Mrs. Marian D.-Prof. Charles Noyes Kinney House (Drake University and Related Properties in Des Moines, Iowa, 1881-1918 MPS) 1318 27th St., Des Moines, 88001340

[FR Doc. 01-14789 Filed 6-11-01; 8:45 am]

BILLING CODE 4310-70-P